DEPARTMENT OF DEFENSE

Department of the Navy

[Docket ID: USN-2023-HQ-0017]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by January 5, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION:

Title; Associated Form; and OMB Number: NAWCAD STEM Education Outreach Programs; NAWCAD Forms 5726/1, 5726/2, and 5726/4; OMB Control Number: 0703-SEOP.

Type of Request: Existing collection currently in use without an OMB Control Number.

NAWCAD SEO Program Request

Number of Respondents: 40.

Responses per Respondent: 1.

Annual Responses: 40.

Average Burden per Response: 30 minutes.

Annual Burden Hours: 20.

NAWCAD SEO Science Fair Mentor Program Student Application

Number of Respondents: 24.

Responses per Respondent: 1.

Annual Responses: 24.

Average Burden per Response: 30 minutes.

Annual Burden Hours: 12.

NAWCAD SEO Program Registration

Number of Respondents: 132.

Responses per Respondent: 1.

Annual Responses: 132.

Average Burden per Response: 20 minutes.

Annual Burden Hours: 44.

Total Burden

Annual Burden Hours: 76.

Number of Respondents: 196.

Annual Responses: 196.

Needs and Uses: The mission of the Naval Air Warfare Center Aircraft Division's (NAWCAD) Strategic Education Office (SEO) is to provide meaningful opportunities for students in the areas of Science, Technology, Engineering, and Mathematics (STEM) through outreach activities to middle school and high school students. The purpose of the STEM programs is to provide interactive learning experiences for middle school and high school students to create awareness of the additional internship opportunities and naval careers encouraging students to pursue STEM education and career fields. Through the Southern Maryland region partnership agreements between federal agencies and educational institutions providing support and services to public and private school students, the NAWCAD SEO assists in orchestrating of variety of engagement activities to include NAWCAD hosted annual STEM centric summer camp programs, classroom speaking and demonstrations, school field trips, mentorships, and the organizing of volunteer support for all activities. To facilitate annual events, information must be collected from local area educational institutions, community groups, and/or students via three forms: NAWCAD 5726/1, “NAWCAD SEO Program Request”; NAWCAD 5726/2, “NAWCAD SEO Science Fair Mentor Program Student Application”; and NAWCAD 5726/4, “NAWCAD SEO Program Registration.”

Affected Public: Individuals or households; State, Local or Tribal Government.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: November 30, 2023.
Aaron T. Siegel,
Alternate OSD Federal Register Liaison Officer, Department of Defense.

[FR Doc. 2023-26758 Filed 12-5-23; 8:45 am]

BILLING CODE 6001-FR-P